OFFICE OF MANAGEMENT AND BUDGET

Executive Office of the President; Acquisition Advisory Panel; Notification of Upcoming Meetings of the Acquisition Advisory Panel

AGENCY: Office of Management and Budget, Executive Office of the President.

ACTION: Notice of Federal Advisory Committee meetings.

SUMMARY: The Office of Management and Budget announces two meetings of the Acquisition Advisory Panel (AAP or “Panel”) established in accordance with the Services Acquisition Reform Act of 2003.

DATES: There are two meetings announced in this Federal Register Notice. Public meetings of the Panel will be held on October 27, 2005 and November 18, 2005, beginning at 9 a.m. Eastern Time and ending no later than 5 p.m.

ADDRESSES: Both meetings will be held at the Federal Deposit Insurance Corporation (FDIC), Basement auditorium, 801 17th Street NW., Washington DC 20434. The public is asked to pre-register one week in advance for both meetings due to security and/or seating limitations (see below for information on pre-registration).

FOR FURTHER INFORMATION CONTACT: Members of the public wishing further information concerning these meetings or the Acquisition Advisory Panel itself, or to pre-register for either meeting, should contact Ms. Laura Auletta, Designated Federal Officer (DFO), at: laura.auletta@gsa.gov, phone/voice mail (202) 208-7279, or mail at: General Services Administration, 1800 F Street, NW., Room 4006, Washington, DC, 20405. Members of the public wishing to reserve speaking time must contact Ms. Anne Terry, AAP Staff Analyst, in writing at: anne.terry@gsa.gov, by FAX at 202-501-3341, or mail at the address given above for the DFO, no later than one week prior to the meeting at which they wish to speak.

SUPPLEMENTARY INFORMATION: (a) Background: The purpose of the Panel is to provide independent advice and recommendations to the Office of Federal Procurement Policy and Congress pursuant to Section 1423 of the Services Acquisition Reform Act of 2003. The Panel's statutory charter is to review Federal contracting laws, regulations, and governmentwide policies, including the use of commercial practices, performance-based contracting, performance of acquisition functions across agency lines of responsibility, and governmentwide contracts. Interested parties are invited to attend the meetings. Opportunity for public comments will be provided at both meetings. Additional time for oral public comments is expected at future public meetings to be announced in the Federal Register.

October 27, 2005 Meeting—Selected working groups, established at the February 28, 2005 public meeting of the AAP (see http://www.acqnet.gov/aap for a list of working groups), will report their draft findings during this meeting. The Panel also expects to hear from additional invited speakers from the public and private sectors who will address issues related to the Panel's statutory charter. In addition to working group reports and invited speakers, the Panel is also welcoming oral public comments at this meeting and has reserved one hour for this purpose. Members of the public wishing to address the Panel during the meeting must contact Ms. Anne Terry, in writing, as soon as possible to reserve time (see contact information above).

November 18, 2005 Meeting—Selected working groups, established at the February 28, 2005 public meeting of the AAP (see http://www.acqnet.gov/aap for a list of working groups), will continue to report their draft findings. The Panel also expects to hear from additional invited speakers from the public and private sectors who will address issues related to the Panel's statutory charter. In addition to working group reports and invited speakers, the Panel is also welcoming oral public comments at this meeting and has reserved one hour for this purpose. Members of the public wishing to address the Panel during the meeting must contact Ms. Anne Terry, in writing, as soon as possible to reserve time (see contact information above).

(b) Availability of Materials for the Meetings: Please see the Acquisition Advisory Panel Web site for any available materials, including draft agendas, for these meetings (http://www.acqnet.gov/aap). Questions/issues of particular interest to the Panel are also available to the public on this Web site on its front page, including “Questions for Government Buying Agencies,” “Questions for Contractors that Sell Commercial Goods or Services to the Government,” “Questions for Commercial Organizations,” and an issue raised by one Panel member regarding the rules of interpretation and performance of contracts and liabilities of the parties entitled “Proposal for Public Comment.” The Panel encourages the public to address any of these questions/issues when presenting either oral public comments or written statements to the Panel. The public may also obtain copies of Initial Working Group Reports presented at the March 30, 2005 public meeting and the follow-up scope reports presented at the June 14, 2005 public meeting at the Panel's Web site under “Meeting Materials” at this Web site. Minutes for each meeting are also posted.

(c) Procedures for Providing Public Comments: It is the policy of the Acquisition Advisory Panel to accept written public comments of any length, and to accommodate oral public comments whenever possible. To facilitate Panel discussions at its meetings, the Panel may not accept oral comments at all meetings. The Panel Staff expects that public statements presented at Panel meetings will be focused on the Panel's statutory charter and working group topics, and not be repetitive of previously submitted oral or written statements, and that comments will be relevant to the issues under discussion.

Oral Comments: Speaking times will be confirmed by Panel staff on a “first-come/first-served” basis. To accommodate as many speakers as possible, oral public comments must be no longer than 10 minutes. Because Panel members may ask questions, reserved times will be approximate. Interested parties must contact Ms. Anne Terry, in writing (via mail, e-mail, or fax identified above for Ms. Terry) at least one week prior to the meeting in order to be placed on the public speaker list for the meeting. Oral requests for speaking time will not be taken. Speakers are requested to bring extra copies of their comments and presentation slides for distribution to the Panel at the meeting. Speakers wishing to use a Power Point presentation must e-mail the presentation to Ms. Terry one week in advance of the meeting.

Written Comments: Although written comments are accepted until the date of the meeting (unless otherwise stated), written comments should be received by the Panel Staff at least one week prior to the meeting date so that the comments may be made available to the Panel for their consideration prior to the meeting. Written comments should be supplied to the DFO at the address/contact information given in this FR Notice in one of the following formats (Adobe Acrobat, WordPerfect, Word, or Rich Text files, in IBM-PC/Windows 98/2000/XP format). Please note: Since the Panel operates under the provisions of the Federal Advisory Committee Act, as amended, all public presentations will be treated as public documents and will be made available for public inspection, up to and including being posted on the Panel's Web site.

(d) Meeting Accommodations: Individuals requiring special accommodation to access the public meetings listed above should contact Ms. Auletta at least five business days prior to the meeting so that appropriate arrangements can be made.

Laura Auletta,
Designated Federal Officer (Executive Director), Acquisition Advisory Panel.

[FR Doc. 05-20598 Filed 10-12-05; 8:45 am]

BILLING CODE 3110-01-P